DEPARTMENT OF TRANSPORTATION

Federal Highway Administration

Notice of Final Federal Agency Actions on Proposed Highway in Idaho

AGENCY: Federal Highway Administration (FHWA), DOT.

ACTION: Notice of limitation on claims for judicial review of actions by FHWA and other Federal agencies.

SUMMARY: This notice announces actions taken by the FHWA and other Federal agencies that are final within the meaning of 23 U.S.C. 139(l)(1). The actions relate to a proposed highway project, SH-75 Timmerman Junction to Ketchum, Project No. STP-F-2392(035), Key No. 3077, in Blaine County, in the State of Idaho. Those actions grant licenses, permits, and approvals for the project.

DATES: By this notice, the FHWA is advising the public of final agency actions subject to 23 U.S.C. § 139(l)(1). A claim seeking judicial review of the Federal agency actions on the highway project will be barred unless the claim is filed on or before March 2, 2009. If the Federal law that authorizes judicial review of a claim provides a time period of less than 180 days for filing such claim, then that shorter time period still applies.

FOR FURTHER INFORMATION CONTACT: For FHWA: Mr. Peter Hartman, Division Administrator, Federal Highway Administration, 3050 Lakeharbor Lane Suite 126, Boise, Idaho 83703; telephone (208) 334-1843, e-mail: Idaho.FHWA@fhwa.dot.gov. The FHWA Idaho Division Office's normal business hours are 8 a.m. to 4 p.m. (Mountain Time). For ITD: Mr. Mike Scott, Project Manager, Idaho Transportation Department, District 4, 216 S. Date Street, Shoshone, Idaho 83352; telephone: (208) 886-7806; e-mail: mike.scott@itd.idaho.gov. The ITD District 4 normal business hours are 8 a.m. to 5 p.m. (Mountain Time).

SUPPLEMENTARY INFORMATION: Notice is hereby given that the FHWA and other Federal agencies have taken final agency actions subject to 23 U.S.C. (l)(1) by issuing licenses, permits, and approvals for the following highway project in the State of Idaho: SH-75 from Timmerman Junction (US-20) to Saddle Road in the City of Ketchum. The project will reconstruct and widen approximately 26 miles of SH-75 within the described limits. This reconstruction will widen SH-75 to three, four, or five lanes through the corridor. The project will construct shoulders, curbs, sidewalks, bike lanes, and turn lanes through the corridor; also traffic signals or roundabouts will be constructed to improve safety and operation of various intersections throughout the corridor. The actions by the Federal agencies, and the laws under which such actions were taken, are described in the Final Environmental Impact Statement (FEIS) for the project, approved on March 5, 2008, in the FHWA Record of Decision (ROD) issued on August 13, 2008, and in other documents in the FHWA administrative record. The FEIS, ROD, and other documents in the FHWA administrative record file are available by contacting the FHWA or the Idaho Transportation Department at the addresses provided above. The FHWA FEIS can be viewed at public libraries in the project area. The ROD can be downloaded from the Idaho Transportation Department Web site at: http://itd.idaho.gov/Projects/D4/Idaho75TimmermanToKetchum/default.asp. This notice applies to all Federal agency decisions as of the issuance date of this notice and all laws under which such actions were taken, including but not limited to:

General Environmental Statutes

National Environmental Policy Act: 42 U.S.C. 4321-4335 (Pub. L. 91-190), (Pub. L. 94-83).

Section 4(f) of The Department of Transportation Act: 23 U.S.C. 138, 49 U.S.C. 303 (Pub. L. 100-17), (Pub. L. 97-449), (Pub. L. 86-670).

Economic, social, and environmental effects: 23 U.S.C. 109(h), (Pub. L. 91-605), 23 U.S.C. 128.

Uniform Relocation Assistance and Real Property Acquisition Act of 1970 (42 U.S.C. 4601 et seq., Pub. L. 91-646) as amended by the Uniform Relocation Act Amendments of 1987 (Pub. L. 100-17)

Title VI of the Civil Rights Act of 1964 (42 U.S.C. 2000d et seq.) 23 U.S.C. 324; Americans with Disabilites Act (42 U.S.C. 12101) and related statutes

Executive Order 12898: Environmental Justice

Public hearings: 23 U.S.C. 128

Health

Solid Waste Disposal Act, as amended by the Resource Conservation and Recovery Act of 1976: 42 U.S.C. 6901, et seq., especially 42 U.S.C. 6961-6964 (Pub. L. 89-272) (Pub. L. 91-512) (Pub. L. 94-580)

Historical and Archeological Preservation

Section 106 of the National Historic Preservation Act, as amended: 16 U.S.C. 470f (Pub. L. 89-665) (Pub. L. 91-243) (Pub. L. 93-54) (Pub. L. 94-422) (Pub. L. 94-458) (Pub. L. 96-199) (Pub. L. 96-244) (Pub. L. 96-515) (Pub. L. 102-575)

Section 110 of the National Historic Preservation Act, as amended: 16 U.S.C. 470H-2 (Pub. L. 96-515)

Archeological and Historic Preservation Act: 16 U.S.C. 469-469C (Pub. L. 93-291) (Moss-Bennett Act)

Archeological Resources Protection Act: 16 U.S.C. 470aa-11 (Pub. L. 96-95)

American Indian Religious Freedom Act: 42 U.S.C. 1996 (Pub. L. 95-341)

Native American Grave Protection and Repatriation Act: (Pub. L. 101-601) 25 U.S.C. 3001 et seq.

Land and Water Usage

Executive Order 11988: Floodplain Management, as amended by Executive Order 12148

Federal Water Pollution Control Act (1972), as amended by the Clean Water Act (1977 & 1987): 33 U.S.C. 1251-1376 (Pub. L. 92-500) (Pub. L. 95-217) (Pub. L. 100-4)

Wildflowers 23 U.S.C. 319 (B) (Pub. L. 100-17)

Farmland Protection Policy Act of 1981: 7 U.S.C. 4201-4209 (Pub. L. 97-98) (Pub. L. 99-198)

Comprehensive Environmental Response, Compensation, and Liability Act of 1980 (CERCLA), as amended: 42 U.S.C. 9601-9657 (Pub. L. 96-510) Superfund Amendments and Reauthorization Act of 1986: (SARA) (Pub. L. 99-499)

Endangered Species Act of 1973, as amended: 16 U.S.C. 1531-1543 (Pub. L. 93-205) (Pub. L. 94-359) (Pub. L. 95-632) (Pub. L. 96-159) (Pub. L. 97-304)

Intermodal Surface Transportation Efficiency Act of 1991 Sec. 1038 Recycled Paving Material: (Pub. L. 102-240)

Noise

Standards: 23 U.S.C. 109(i) (Pub. L. 91-605) (Pub. L. 93-87)

Air Quality

Clean Air Act (as amended), Transportation Conformity Rule: 23 U.S.C. 109 (j) 42 U.S.C. 7521 (a) (Pub. L. 101-549)

Intermodal Surface Transportation Efficiency Act of 1991. Congestion Mitigation and Air Quality Improvement Program (CMAQ): Sec 1008 23 U.S.C. 149.

(Catalog of the Federal Domestic Assistance Program Number 20.205, Highway Planning and Construction. The regulations implementing Executive Order 12372 regarding intergovernmental consultation on Federal programs and activities apply to this program.)

Authority: 23 U.S.C. 139(l)(1).

Issued on: August 27, 2008.
Peter J. Hartman,
Division Administrator, Federal Highway Administration—Boise, Idaho.

[FR Doc. E8-20352 Filed 9-2-08; 8:45 am]

BILLING CODE 4910-RY-P